DEPARTMENT OF ENERGY

Federal Energy Regulatory Commission

[Project No. 946-007]

Hyrum City; Notice of Scoping Meetings and Site Visit and Soliciting Scoping Comments

July 11, 2006.

Take notice that the following hydroelectric application has been filed with the Commission and is available for public inspection.

a. Type of Application: A Subsequent License. (Minor Project).

b. Project No.: 946-007.

c. Date filed: April 28, 2006.

d. Applicant: Hyrum City.

e. Name of Project: Hyrum City Hydroelectric Project.

f. Location: On the Blacksmith Fork River in Hyrum City, Cache County, Utah. The project affects about 17.03 acres of federal lands within the Wasatch Cache National Forest.

g. Filed Pursuant to: Federal Power Act 16 U.S.C. 791(a)-825(r).

h. Applicant Contact: Dean Howard, Mayor Hyrum City, 83 West Main Street, Hyrum, Utah 84319; (435) 245-6033, or Ken Tuttle or Mike Wilcox, Sunrise Engineering, Inc., 25 East 500 North, Fillmore, UT 84631; (435) 743-6151.

i. FERC Contact: Gaylord Hoisington, (202) 502-6032 or gaylord.hoisington@FERC.gov.

j. Deadline for filing scoping comments: August 30, 2006.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The existing Hyrum City's Hydropower Project includes the following constructed facilities: (1) A 15-foot-high, 70-foot-long earth-fill concrete core embankment to the north, a 14-foot-high, 65-foot-long concrete spillway section, a 15-foot-high, 125-foot-long earth-fill concrete core embankment to the north which makes the total length of the dam approximately 260-foot-long; (2) a 16-foot-high, 8-foot-wide concrete intake structure with a 20-foot-high, 8-foot-wide trash rack and fish ladder; (3) a 60-inch-diameter concrete penstock inlet with head gate; (4) a 3,470-foot-long, 48-inch-diameter concrete penstock going into a 130-foot-long, 42-inch-diameter steel penstock; (5) a 37-acre-foot de-silting pond; (6) a 26-foot-wide, 39-foot-long, 20-foot-high brick powerhouse; (7) a 400-kilowatt Leffel horizontal shaft scroll case turbine; (8) a 100-foot, 2.4-kV underground transmission line; and (9) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process.

The Commission intends to prepare an Environmental Assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting.

Date: Monday, July 31, 2006.

Time: 1:30 p.m. (MST).

Place: City of Hyrum Town Council Meeting Hall.

Address: 83 West Main Street, Hyrum, UT 84319.

Public Scoping Meeting.

Date: Monday, July 31, 2006.

Time: 7 p.m. (MST).

Place: City of Hyrum Town Council Meeting Hall.

Address: 83 West Main Street, Hyrum, UT 84319.

Copies of the Scoping Document (SD1) outlining the subject areas to be addressed in the EA were distributed to the parties on the Commission's mailing list. Copies of the SD1 will be available at the scoping meeting or may be viewed on the Web at http://www.ferc.gov using the “eLibrary” link (see item m above).

Site Visit

The Applicant and FERC staff will conduct a project site visit beginning at 9 a.m. on Monday July 31, 2006. All interested individuals, organizations, and agencies are invited to attend. All participants should RSVP to Guy McBride at 435-245-3652. All participants are responsible for their own transportation to the site.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. E6-11263 Filed 7-14-06; 8:45 am]

BILLING CODE 6717-01-P